DEPARTMENT OF TRANSPORTATION

National Highway Traffic Safety Administration

[Docket No. NHTSA 2003-15990; Notice 1]

Mazda North American Operations; Receipt of Application for Determination of Inconsequential Noncompliance

Mazda North American Operations, on behalf of Mazda Motor Corporation of Hiroshima, Japan (Mazda), has applied to be exempted from the notification and remedy requirements of the 49 U.S.C. chapter 301 “Motor Vehicle Safety” for a noncompliance with Federal Motor Vehicle Safety Standard (FMVSS) No. 208, “Occupant Crash Protection,” on the basis that the noncompliance is inconsequential to motor vehicle safety. Mazda has filed a report of noncompliance pursuant to 49 CFR part 573, “Defect and Noncompliance Reports.”

This notice of receipt of the application is published under 49 U.S.C. 30118 and 30120 and does not represent any agency decision or other exercise of judgment concerning the merits of the application. See 49 U.S.C. 30118(d) and 30120(h).

Mazda submitted the following information in accordance with the requirements of 49 CFR part 556, “Exemption for Inconsequential Defect or Noncompliance.”

Summary of the Petition

Approximately 350 MY 2002 and 2003 Mazda MPVs produced for sale “in the U.S. territories” were manufactured with airbag warning labels intended for the Canadian market. Thus, the labels contain warnings in both English and French. As a result, the area of the English warning is only 16 square centimeters, as opposed to the 30 square centimeters required by FMVSS No. 208. This condition does not comply with the requirements of S4.5.1 of FMVSS No. 208.

Mazda learned of this problem when a service engineer, employed by Mazda Canada Inc., informed them that some 2003 model year MPVs had no French airbag warning on the vinyl sun visor. Mazda's subsequent investigation revealed that some of the labels intended for vehicles that would be shipped to Canada were installed in vehicles produced for sale in the U.S. territories, and some vehicles produced for sale in Canada included labels intended for the U.S. market.

Mazda argued that first, the warning contained on the bilingual label is identical to the warning required by the standard. Second, the layout of the label and its location in the vehicle is also the same as the requirements of the standard. The only difference between the noncomplying label and the label required by the standard is that the information on the label is also provided in French and the area of the English language warning is 16 square centimeters rather than the 30 square centimeters required by the standard.

Since January 1997, Mazda has sold more than 260,000 vehicles with this identical bilingual label in Canada. In that time, Mazda believes that NHTSA has not had a single complaint that a driver or passenger was unable to decipher the information on the label because of the size of the message. If there are individuals who have difficulty reading the size of the warning, the information is also found in the owner's manual.

Mazda believes that its noncompliance with S4.5.1 of FMVSS No. 208 does not present a risk to vehicle safety and that it should be exempt from the notification and remedy requirements of the Safety Act.

Availability of the Petition and Other Documents

The petition and other relevant information are available for public inspection in NHTSA Docket No. NHTSA-2003-15990; Notice 1. You may call the Docket at (202) 366-9324 or you may visit the Docket Management in Room PL-401, 400 Seventh Street, SW., Washington, DC 20590 (10 a.m. to 5 p.m., Monday through Friday). You may also view the petition and other relevant information on the internet. To do this, do the following:

(1) Go to the Docket Management System (DMS) web page of the Department of Transportation (http://dms.dot.gov/).

(2) On that page, click on “Simple Search.”

(3) On the next page (http://dms.dot.gov/searchform.simple.cfm/), type in the docket number “xxxxxxx.” After typing the docket number, click on “Search.”

(4) On the next page, which contains docket summary information for the docket you selected, click on the desired comments. You may download the comments and other materials.

Comments: You may submit comments by DOT DMS Docket Number NHTSA 2003-15990; Notice 1, by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-001.

• Hand Delivery: Room PL-401 on the plaza level of the Nassif Building, 400 Seventh Street SW., Washington, DC, between 9 a.m. and 5 p.m., Monday through Friday, accept Federal holidays.

• Federal Rulemaking Portal: Go to http://www.regulations.gov. Follow the online instructions for submitting comments.

All comments received before the close of business on the closing date indicated below will be considered. The application and supporting materials, and all comments received after the closing date, will also be filed and will be considered to the extent practicable. When the application is granted or denied, a notice will be published in the Federal Register pursuant to the authority indicated below.

Comment closing date: October 20, 2003.

(49 U.S.C. 30118, 30120; delegations of authority at 49 CFR 1.50 and 49 CFR 501.8)

Issued on: September 11, 2003.
Stephen R. Kratzke,
Associate Administrator for Rulemaking.

[FR Doc. 03-23875 Filed 9-17-03; 8:45 am]

BILLING CODE 4910-59-P